DEPARTMENT OF ENERGY

Federal Energy Regulatory Commission

[Project No. 12687-003]

Public Utility District No. 1 of Snohomish County; Notice of Preliminary Permit Application Accepted for Filing and Soliciting Comments, Motions To Intervene, and Competing Applications

May 14, 2010.

On March 2, 2010, and supplemented on April 29, 2010, and May 4, 2010, Public Utility District No. 1 of Snohomish County, Washington (Snohomish PUD) filed an application for a preliminary permit, pursuant to section 4(f) of the Federal Power Act, proposing to study the feasibility of the Deception Pass Tidal Energy Project (project). The project would be located in Puget Sound within Deception Pass, between Whidbey Island and Fidalgo Island, in Skagit and Island Counties, Washington. The sole purpose of a preliminary permit, if issued, is to grant the permit holder priority to file a license application during the permit term. A preliminary permit does not authorize the permit holder to perform any land-disturbing activities or otherwise enter upon lands or waters owned by others without the owners' express permission.

The proposed project would consist of the following: (1) Four approximately 66-foot-diameter, 1.6-megawatt horizontal axis tidal energy turbine/generator units, each mounted approximately 25 feet above the sea bed; (2) an approximately 1-mile-long subsea transmission cable, which may be buried as it approaches shore at Miller Bay; (3) a cable termination vault on shore; (4) either an approximately 6.5-mile long above ground transmission line connecting with Puget Sound Energy's existing March Point substation, or an above ground transmission line and new substation connecting with an existing 115-kilovolt line, the location of which is yet to be determined; and (5) appurtenant facilities. The project is estimated to have average annual generation of 20.7 gigawatt-hours, which would be distributed by the Snohomish PUD.

Applicant Contact: Steven J. Klein, General Manager, Public Utility District No. 1 of Snohomish County, P.O. Box 1107, 2320 California Street, Everett, WA 98206-1107, phone: (425) 783-1000.

FERC Contact: Jennifer Harper, 202-502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12687) in the docket number field to access the document. For assistance, contact FERC Online Support.

Kimberly D. Bose,
Secretary.

[FR Doc. 2010-12239 Filed 5-20-10; 8:45 am]

BILLING CODE 6717-01-P